INTERNATIONAL TRADE COMMISSION

[Investigation No. 337-TA-817]

Certain Communication Equipment, Components Thereof, and Products Containing the Same, Including Power Over Ethernet Telephones, Switches, Wireless Access Points, Routers and Other Devices Used in LANS, and Cameras; Determination Not To Review an Initial Determination Granting Complainant's Motion To Amend the Complaint and Notice of Investigation

AGENCY: U.S. International Trade Commission.

ACTION: Notice.

SUMMARY: Notice is hereby given that the U.S. International Trade Commission has determined not to review the presiding administrative law judge's (“ALJ”) initial determination (“ID”) (Order No. 10) granting the Complainant's motion to amend the complaint and the Notice of Investigation.

FOR FURTHER INFORMATION CONTACT: Amanda S. Pitcher, Esq., Office of the General Counsel, U.S. International Trade Commission, 500 E Street SW., Washington, DC 20436, telephone (202) 205-2737. Copies of non-confidential documents filed in connection with this investigation are or will be available for inspection during official business hours (8:45 a.m. to 5:15 p.m.) in the Office of the Secretary, U.S. International Trade Commission, 500 E Street SW., Washington, DC 20436, telephone (202) 205-2000. General information concerning the Commission may also be obtained by accessing its Internet server at http://www.usitc.gov. The public record for this investigation may be viewed on the Commission's electronic docket (EDIS) at http://edis.usitc.gov. Hearing-impaired persons are advised that information on this matter can be obtained by contacting the Commission's TDD terminal on (202) 205-1810.

SUPPLEMENTARY INFORMATION: The Commission instituted this investigation on December 7, 2011, based on a complaint filed by ChriMar Systems, Inc. d/b/a DMS Technologies (“ChriMar”) of Farmington Hills, Michigan, alleging a violation of section 337 in the importation into the United States, the sale for importation, and the sale within the United States after importation of certain communication equipment, components thereof, and products containing the same, including power over ethernet telephones, switches, wireless access points, routers and other devices used in LANs, and cameras. 76 FR 76,436-37 (Dec. 7, 2011). The complaint alleges infringement of certain claims of U.S. Patent No. 7,457,250 (“the '250 patent”). The first amended complaint further alleges that an industry in the United States exists as required by subsection (a)(2) of section 337. The Notice of Investigation names a plurality of respondents.

On May 14, 2012, the ALJ issued an ID granting ChriMar's motion to amend the complaint and Notice of Investigation. Order No. 10 at 7. ChriMar sought to add additional facts to the complaint and to amend the Notice of Investigation to add the underlined portion of the following language: “whether an industry in the United States exists or is in the process of being established as required by subsection(a)(2) of section 337.” Id. at 1, 3, 7. The ALJ found that there is good cause to amend the complaint and Notice of Investigation. Id. at 7. No petitions for review were filed. The Commission has determined not to review the ID.

The authority for the Commission's determination is contained in Section 337 of the Tariff Act of 1930, as amended (19 U.S.C. 1337), and in section 210.42(h) of the Commission's Rules of Practice and Procedure (19 CFR 210.42(h)).

By order of the Commission.
Issued: June 12, 2012.
Lisa R. Barton,
Acting Secretary to the Commission.

[FR Doc. 2012-14750 Filed 6-15-12; 8:45 am]

BILLING CODE 7020-02-P